DEPARTMENT OF LABOR

Employment and Training Administration

[TA-W-55,484]

Toro Irrigation and Consumer Products, El Paso, TX; Notice of Termination of Investigation

Pursuant to section 221 of the Trade Act of 1974, as amended, an investigation was initiated on August 20, 2004, in response to a worker petition filed by a company official on behalf of workers at Toro Irrigation and Consumer Products, El Paso, Texas.

The petitioning group of workers is covered by an earlier petition filed on August 19, 2004 (TA-W-55,476) that is the subject of an ongoing investigation for which a determination has not yet been issued. Further investigation in this case would duplicate efforts and serve no purpose; therefore the investigation under this petition has been terminated.

Signed at Washington, DC, this 26th day of August, 2004.
Elliott S. Kushner,
Certifying Officer, Division of Trade Adjustment Assistance.

[FR Doc. 04-20873 Filed 9-15-04; 8:45 am]

BILLING CODE 4510-30-M